DEPARTMENT OF VETERANS AFFAIRS

West Los Angeles VA Medical Center Veterans Programs Enhancement Act of 1998; Master Plan 2022 Draft

AGENCY: Department of Veterans Affairs.

ACTION: Notice of availability; request for comments.

SUMMARY: This Federal Register Notice announces the availability of the Master Plan 2022 draft for public comment. The Master Plan 2022 draft is an update to the Draft Master Plan (DMP) which contemplated that West Los Angeles (WLA) Department of Veterans Affairs (VA) would periodically review, reevaluate, and update the DMP every three to five years. As various elements of the DMP are implemented and the needs of the WLA Campus and the Veterans population it serves change, the plan will evolve and be revised accordingly. This iteration is Master Plan 2022, the first update to the DMP. The DMP and the Master Plan 2022 are created in accordance with the West Los Angeles Leasing Act of 2016.

DATES: Comments must be received on or before December 17, 2021.

ADDRESSES: Written comments may be submitted through http://www.Regulations.gov. Comments should indicate that they are submitted in response to “Notice: Master Plan 2022.” All comments received will also be available for public viewing, inspection, or copies at http://www.Regulations.gov. Copies of Master Plan 2022 draft will be available at the following locations:

• Los Angeles City Hall, 200 N Spring Street, Los Angeles, CA 90012, (213) 473-3231

• Donald Bruce Kaufman: Brentwood Branch Library, 11820 San Vicente Boulevard, Los Angeles, CA 90049, (310) 575-8273

• West Los Angeles Regional Library, 11360 Santa Monica Boulevard, Los Angeles, CA 90025, (310) 575-8323

• Westwood Branch Library, 1246 Glendon Avenue, Los Angeles, CA 90024, (310) 474-1739

• VA Greater Los Angeles Healthcare System (GLAHS) WLA Medical Center: 11301 Wilshire Boulevard, Los Angeles, CA 90073, Building 500/Room 6429K

The Draft Master Plan itself, completed in 2016, will be available for viewing at this website: Veterans Affairs Greater Los Angeles Healthcare System Draft Master Plan (westladraftmasterplan.org).

FOR FURTHER INFORMATION CONTACT: For specific questions related to comment collection, please contact Mr. Alan Trinh, Chief, Office of Strategic, Facility & Master Planning at 310-478-3711 x46931.

SUPPLEMENTARY INFORMATION: The WLA Campus master planning initiative was launched in 2015 with significant participation and collaboration on concepts from various stakeholders including: Veterans Service Organizations, Veterans, former plaintiffs of the lawsuit, local community entities and individuals, charitable and philanthropic entities, elected officials, state and local authorities, and many other stakeholders. More than 1,000 public comments were received on the preliminary draft. The Secretary of VA (SECVA) adopted the DMP in January 2016, sealing VA's commitment to the “framework” expressed in the DMP.

In keeping with VA's goals to reach as many Veterans as possible and to ensure that those Veterans receive the services that they need the most, VA has decided to make Master Plan 2022 draft, the most recent update to the Draft Master Plan, available for viewing at https://www.westladraftmasterplan.org and invite members of the public and other interested parties to review the updated Master Plan and to comment on it.

This update that is being made available for public comment, Master Plan 2022 draft, will move from the draft and framework concepts to: (1) Solidify accomplishments to date, (2) explain the committed path for a community plan, and (3) provide the path forward identifying strategic options.

After the public comment period for this notice has closed, VA will make any necessary adjustments to the Master Plan 2022 draft for submission to Secretary McDonough.

Authority: Public Law 114-226, as amended by Public Law 115-251.

Signing Authority

Denis McDonough, Secretary of Veterans Affairs, approved this document on October 12, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-22642 Filed 10-15-21; 8:45 am]

BILLING CODE 8320-01-P